DEPARTMENT OF THE INTERIOR

Bureau of Reclamation

Lower Santa Ynez River Fish Management Plan and Cachuma Project Biological Opinion, Santa Barbara County, CA

AGENCY: Bureau of Reclamation, Interior.

ACTION: Notice of intent to prepare an environmental impact statement/report (EIS/R).

SUMMARY: The Bureau of Reclamation (Reclamation) and the Cachuma Operation and Maintenance Board (COMB) will prepare a joint EIS/R on the management actions and projects included in the: (1) Lower Santa Ynez River Fish Management Plan (FMP) prepared by Reclamation and other agencies and parties involved in the Cachuma Project; and (2) the Biological Opinion (BO) prepared by the National Marine Fisheries Service (NMFS) on the Cachuma Project relative to the endangered southern steelhead population that resides in the Santa Ynez River. Management actions in the FMP and BO are designed to improve habitat for the steelhead along the river downstream of Lake Cachuma through mandated flow, habitat, and passage improvements.

DATES: Reclamation and COMB will hold a scoping meeting at 7 p.m. on November 19, 2001, in Solvang, California to seek public input on alternatives, possible impacts, and issues to be addressed in the EIS/R. Written comments on the scope of the alternatives and impacts to be considered should be sent to the address below by December 3, 2001.

ADDRESSES: The scoping meeting will be at the Veteran's Memorial Building, 1745 Mission Drive in Solvang. Written comments on the scope of the EIS/R should be sent to Mr. David Young, Bureau of Reclamation, South-Central California Area Office, 1243 N Street, Fresno, CA 93721, or by phone at 559-487-5127, or by fax to 559-487-5130.

FOR FURTHER INFORMATION CONTACT: Mr. David Young at the above address, telephone: (559) 487-5127.

SUPPLEMENTARY INFORMATION: In June 1994, the Memorandum of Understanding for Cooperation in Research and Fish Maintenance (Fish MOU) was executed among various parties with interests along the Santa Ynez River, and is currently being continued through the 2001 Fish MOU. The MOU provides water for fish studies and fish habitat and passage. Since 1993, the Santa Ynez River Technical Advisory Committee (SYRTAC), comprised of various biologists and resource agency personnel, has directed the studies and releases. Signatories to the 1994 MOU include Reclamation, the Santa Barbara County Water Agency, California Department of Fish and Game, U.S. Fish and Wildlife Service, Santa Ynez Water River Conservation District—Improvement District #1 (SYRWCD ID#1), Cachuma Conservation Release Board (CCRB), City of Lompoc, and Santa Ynez River Water Conservation District.

One of the primary objectives of the Fish MOU is to identify management actions to improve conditions for native fish and other aquatic resources, including southern steelhead. A draft FMP was prepared by the SYRTAC and issued for public comment in 2000. A final FMP was issued in October 2000. It incorporated the requirements in the BO for the Cachuma Project independently issued by NMFS in September 2000, which includes mandatory terms and conditions that require Reclamation to implement 15 specific reasonable and prudent measures to minimize take of the southern steelhead. Reclamation is currently implementing these measures in coordination with COMB. The 2001 Fish MOU supports the implementation of the BO and the FMP.

The FMP and BO management actions have been designed to benefit steelhead and other aquatic species directly and indirectly by: (1) Creating new habitat and improving existing habitat in the lower river and tributaries; (2) improving access to spawning and rearing habitats in the lower river and tributaries; and (3) increasing public awareness and support for beneficial actions on private lands. Many management actions can be implemented independent of others and as such, can be considered individual “projects.”

The FMP management actions or projects would be implemented by one or more agencies, depending upon funding sources, location of a project on federal versus non-federal land, and whether the project is also a mandatory requirement of the steelhead BO. Agencies that may implement projects separately or jointly include Reclamation, COMB, CCRB, SYRWCD ID#1, and Caltrans.

The EIS/R will address the following management actions and projects contained in the FMP and BO:

Actions by Reclamation and/or COMB, CCRB, SYRWCD ID#1, & Caltrans

• Surcharging the reservoir to 3.0 feet to provide water for fish accounts

• Mainstem rearing releases to achieve downstream target flows for rearing habitat; maintain residual pools; revise ramping; use Hilton Creek for releases; conjunctive use of water rights releases with releases for fish; using water from surcharging

• Fish passage supplementation using water from surcharging

• Adaptive Management Account for discretionary releases, using water from surcharging

• Hilton Creek habitat enhancement and fish passage projects: (1) Releases to Hilton Creek; (2) supplemental watering system; (3) cascade chute passage improvement; and (4) channel extension. In addition, Caltrans passage improvement at Hwy 154 culvert will be included.

• Fish rescue program

Actions That Require Cooperation of Other Agencies and Private Landowners

• Tributary passage impediment removal. Sites on public and private property on Quiota (6), El Jaro (1), Nojoqui (1) creeks.

• Tributary enhancement measures—riparian restoration; instream habitat enhancement; and conservation easements. These measures are located on private property on Quiota, Alisal, Salsipuedes, El Jaro, Nojoqui, and San Miguelito creeks.

• Mainstem habitat enhancement and protection.

The management actions described in the FMP/BO will be implemented in a phased manner over the next 7 years. Projects that will be implemented in the next 2-3 years include: modifying spillgates for 3-foot surcharge; implementing releases using long-term rearing, passage, and Adaptive Management accounts; installing pump system and variable intake facility for the Hilton Creek supplemental watering system; and completing the modification of passage impediments on Hilton Creek.

The EIS/R will evaluate the environmental impacts of the projects in the FMP/BO, as a whole, in a programmatic manner. As the FMP/BO is implemented over time, the EIS/R can be used for tiering project-specific Environmental Assessments. The EIS/R will address impacts of certain FMP/BO management actions at a project level such as surcharging Lake Cachuma to 3.0 feet and several of the Hilton Creek projects.

The FMP/BO is designed to improve environmental conditions for fish and aquatic and riparian habitats. As such, the EIS/R will be focused on incidental adverse impacts associated with implementing the FMP/BO projects. Most of these impacts would be temporary, and associated with construction and access. However, other unintended impacts would be addressed such as loss of oak trees at Lake Cachuma due to surcharging, displacement or disruption of recreational facilities at the lake due to surcharging, increased need for flood control maintenance in the river, and possible conversion of more arid habitats to aquatic habitats.

The following alternatives would be addressed in the EIS/R, as well as any others identified in the scoping process:

• No project alternative

• No surcharging alternative

• Phased surcharging: 1.8 feet, then 3.0 feet

• Smaller surcharging (1.8 feet)

Our practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Dated: October 11, 2001.
Frank Michny,
Regional Environmental Officer.

[FR Doc. 01-27206 Filed 10-29-01; 8:45 am]

BILLING CODE 4310-MN-P